SECURITIES AND EXCHANGE COMMISSION

Sunshine Act Meetings

Federal Register CITATION OF PREVIOUS ANNOUNCEMENT: 87 FR 75683, December 9, 2022.

PREVIOUSLY ANNOUNCED TIME AND DATE OF THE MEETING: Wednesday, December 14, 2022 at 10:00 a.m.

CHANGES IN THE MEETING: The Open Meeting scheduled for Wednesday, December 14, 2022 at 10:00 a.m. has been changed to Wednesday, December 14, 2022 at 11:00 a.m.

CONTACT PERSON FOR MORE INFORMATION: For further information and to ascertain what, if any, matters have been added, deleted or postponed, please contact the Office of the Secretary at (202) 551-5400.

Authority: 5 U.S.C. 552b.

Dated: December 12, 2022.
J. Matthew DeLesDernier,
Deputy Secretary.

[FR Doc. 2022-27222 Filed 12-12-22; 4:15 pm]

BILLING CODE 8011-01-P